DEPARTMENT OF HEALTH AND HUMAN SERVICES

National Institutes of Health

National Cancer Institute; Amended Notice of Meeting

Notice is hereby given of a change in the meeting of the National Cancer Institute Special Emphasis Panel, SEP-1: NCI Clinical and Translational Cancer Research, June 1, 2023, 10:00 a.m. to 5:00 p.m., National Cancer Institute Shady Grove, 9609 Medical Center Drive, Room 7W108, Rockville, Maryland 20850 which was published in the Federal Register on April 06, 2023, FR Doc 2023-07213, 88 FR 20542.

This notice is being amended to change the meeting date from June 1, 2023 to June 8, 2023. Meeting times and location will stay the same. The meeting is closed to public.

Dated: April 6, 2023.
Melanie J. Pantoja,
Program Analyst, Office of Federal Advisory Committee Policy.

[FR Doc. 2023-07570 Filed 4-10-23; 8:45 am]

BILLING CODE 4140-01-P